DEPARTMENT OF DEFENSE

Office of the Secretary

Notification of an Open Meeting of the National Defense University Board of Visitors (BOV); Revision

AGENCY: National Defense University, DoD.

ACTION: Notice of open meeting; revision.

SUMMARY: On October 27, 2014 (79 FR 63906), the Department of Defense published a notice announcing an open meeting of the Federal Advisory Committee meeting of the National Defense University Board of Visitors (BOV). The time of the meeting on the second day (November 18) has changed and is updated in this notice.

DATES: The meeting will be held on Monday, November 17, 2014 from 12:00 p.m. to 5:00 p.m. and will continue on Tuesday, November 18, 2014, from 8:00 a.m. to 9:45 a.m.

ADDRESSES: The Board of Visitors meeting will be held at Lincoln Hall, Building 64, Room 1105, the National Defense University, 300 5th Avenue SW., Fort McNair, Washington, DC 20319-5066.

FOR FURTHER INFORMATION CONTACT: The point of contact for this notice of open meeting is Ms. Joycelyn Stevens at (202) 685-0079, Fax (202) 685-3920 or StevensJ7@ndu.edu.

SUPPLEMENTARY INFORMATION: This meeting is being held under the provisions of the Federal Advisory Committee Act of 1972 (5 U.S.C. Appendix, as amended), the Government in the Sunshine Act of 1976 (5 U.S.C. 552b, as amended), and 41 CFR 102-3.150. Pursuant to 5 U.S.C. 552b and 41 CFR 102-3.140 through 102-3.165, and the availability of space, this meeting is open to the public. The future agenda will include discussion on accreditation compliance, organizational management, strategic planning, resource management, and other matters of interest to the National Defense University.

Limited space made available for observers will be allocated on a first come, first served basis. Pursuant to 41 CFR 102-3.105(j) and 102-3.140, and section 10(a)(3) of the Federal Advisory Committee Act of 1972, written statements to the committee may be submitted to the committee at any time or in response to a stated planned meeting agenda by FAX or email to the point of contact person listed in FOR FURTHER INFORMATION CONTACT. (Subject Line: Comment/Statement to the NDU BOV.)

Due to difficulties beyond the control of the Department of Defense, the Designated Federal Officer was unable to submit an amended Federal Register notice pertaining to the Board of Visitors, National Defense University's meeting agenda for its scheduled meeting of November 18, 2014, that ensured compliance with the requirements of 41 CFR 102-3.150(a). Accordingly, the Advisory Committee Management Officer for the Department of Defense, waives the 15-calendar day notification requirement pursuant to 41 CFR 102-3.150(b).

Dated: November 7, 2014.
Aaron Siegel,
Alternate OSD Federal Register Liaison Officer, Department of Defense.

[FR Doc. 2014-26939 Filed 11-13-14; 8:45 am]

BILLING CODE 5001-06-P